DEPARTMENT OF HEALTH AND HUMAN SERVICES

Substance Abuse and Mental Health Services Administration

Privacy Act of 1974: New System of Records

AGENCY: Substance Abuse and Mental Health Services Administration, DHHS.

ACTION: Notification of a new system of records subject to the Privacy Act of 1974.

SUMMARY: In accordance with the requirements of the Privacy Act, the Substance Abuse and Mental Health Services (SAMHSA) is publishing a notice of the establishment of a new system of records, Child Care Subsidy Program. The new system will collect family income data from SAMHSA employees for the purpose of determining their eligibility for child care subsidies, and the amounts of the subsidies. It also will collect information from the employees' child care provider(s) for verification purposes, e.g., that the provider is licensed. Collection of data will be by subsidy application forms submitted by employees.

DATES: SAMHSA invites interested persons to submit comments on the proposed new system on or before June 7, 2000.

SAMHSA will adopt this new system without further notice on June 7, 2000 unless comments are received which would result in a contrary determination.

ADDRESSES: Please address comments to the SAMHSA Privacy Act Officer, Office of Program Services, Room 13C-20, Parklawn Building, Substance Abuse and Mental Health Services Administration, 5600 Fishers Lane, Rockville, Maryland 20857. We will make comments available for public inspection at the above address during normal business hours, 8:30 a.m.-5:00 p.m.

FOR FURTHER INFORMATION CONTACT: Director, Division of Human Resources Management, OPS/SAMHSA, Room 14C-24, Parklawn Building, 5600 Fishers Lane, Rockville, Maryland 20857 (301) 443-3408.

Dated: May 2, 2000.
Richard Kopanda,
Director, Office of Program Services, Substance Abuse and Mental Health Services Administration.

09-30-0050

System Name:

Child Care Subsidy Program Records (HHS/SAMHSA/OPS).

System Classification:

None.

System Location:

This system of records is maintained by the Office of Program Services, 5600 Fishers Lane, Rockville, Maryland 20857. The system of records will also be maintained at various contractor sites. A current list of contractor sites is available by writing to the System Manager at the address below.

Categories of Individuals Covered by the System:

The individuals in the system are employees of the Substance Abuse and Mental Health Services Administration who voluntarily apply for child care subsidies.

Categories of Records in the System:

Application forms for a child care subsidy contain personal information, including employee's (parent) name, Social Security Number, grade, home phone number, home address, total income, number of dependent children, and number of children on whose behalf the parent is applying for a subsidy, information on any tuition assistance received from State/County/local child care subsidy, and information on child care providers used, including their name, address, provider license number, and State where license issued, tuition cost, provider tax identification number, and copies of Internal Revenue Form 1040 for verification purposes.

Authority for Maintenance of the System:

Pub. L. 106-58 and Executive Order 9397.

Purpose(s):

To establish and verify SAMHSA employees' eligibility for child care subsidies in order for SAMHSA to provide monetary assistance for its employees.

Routine Uses of Records Maintained in the System, Including Categories of Users and the Purposes of Such Use:

1. Disclosure may be made to a Member of Congress or to a congressional staff member in response to a request for assistance from the Member by the individual of record.

2. The Department of Health and Human Services (HHS) may disclose information from this system of records to the Department of Justice, or to a court or other tribunal, when (a) HHS, or any component thereof; or (b) any HHS employee in his or her official capacity; or (c) any HHS employee in his or her individual capacity where the Department of Justice (or HHS, where it is authorized to do so) has agreed to represent the employee; or (d) the United States or any agency thereof where HHS determines that the litigation is likely to affect HHS or any of its components, is a party to litigation, and HHS determines that the use of such records by the Department of Justice, court or other tribunal is relevant and necessary to the litigation and would help in the effective representation of the governmental party, provided, however, that in each case HHS determines that such disclosure is compatible with the purpose for which the records were collected.

3. SAMHSA intends to disclose information from this system to an expert, consultant, or contractor (including employees of the contractor) of SAMHSA if necessary to further the implementation and operation of this program.

4. Disclosure may be made to a Federal, State, or local agency responsible for investigating, prosecuting, enforcing, or implementing a statute, rule, regulation, or order, where the Substance Abuse and Mental Health Services Administration is made aware of a violation or potential violation of civil or criminal law or regulation.

5. Disclosure may be made to the Office of Personnel Management or the General Accounting Office when the information is required for evaluation of the subsidy program.

Policies and Practices for Storing, Retrieving, Accessing, Retaining, and Disposing of Records in The System:

Storage:

Information may be collected on paper or electronically and may be stored as paper forms or on computers.

Retrievability:

The records are retrieved by name and may also be cross-referenced to Social Security Number.

Safeguards:

—Authorized Users: Only SAMHSA personnel working on this project and personnel employed by SAMHSA contractors to work on this project are authorized users as designated by the system manager.

—Physical Safeguards: Records are stored in lockable metal file cabinets or security rooms.

—Procedural Safeguards: Contractors who maintain records in this system are instructed to make no further disclosure of the records, except as authorized by the system manager and permitted by the Privacy Act. Privacy Act requirements are specifically included in contracts.

—Technical Safeguards: Electronic records are protected by use of passwords.

—Implementation Guidelines: HHS Chapter 45-13 of the General Administration Manual, “Safeguard Records Contained in Systems of Records and the HHS Automated Information Systems Security Program Handbook, Information Resources Management Manual.”

Retention and Disposal:

Disposition of records is according to the National Archives and Records Administration (NARA) guidelines, as set forth in the SAMHSA Records Control Schedule, Appendix B-311 (NCI-90-76-5) Item 45.

System Manager(s) and Address(es):

Director, Division of Human Resources Management, Office of Program Services, Substance Abuse and Mental Health Services Administration, 5600 Fishers Lane, Rockville, Maryland 20857.

Notification Procedure:

Individuals may submit a request with a notarized signature on whether the system contains records about them to the above system manager.

Record Access Procedures:

Requests from individuals for access to their records should be addressed to the system manager. Requesters should also reasonably specify the record contents being sought. Individuals may also request an accounting of disclosures of their records, if any.

Contesting Record Procedures:

Contact the official at the address specified under Notification Procedures above and reasonably identify the record, specify the information being contested, and state the corrective action sought, with supporting information to show how the record is inaccurate, incomplete, untimely, or irrelevant.

Record Source Categories:

Information is provided by SAMHSA employees who apply for child care subsidies. Furnishing of the information is voluntary.

Systems Exempted From Certain Provisions of the Act:

None.

[FR Doc. 00-11391 Filed 5-5-00; 8:45 am]

BILLING CODE 4162-20-M